DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: NOAA Teacher At Sea Program.

OMB Control Number: 0648-0283.

Form Number(s): None.

Type of Request: Regular (extension of a currently approved information collection).

Number of Respondents: 1,125.

Average Hours per Response: 45 minutes to read and complete application, 15 minutes to complete a Health Services Questionnaire, 15 minutes to deliver and discuss recommendation forms to persons from whom recommendations are being requested, 15 minutes for those persons to complete a recommendation form, and 2 hours for a follow-up report.

Burden Hours: 758.

Needs and Uses: This request is for extension of a currently approved collection.

NOAA provides educators an opportunity to gain first-hand experience with field research activities through the NOAA Teacher at Sea Program. Through this program, educators spend up to 4 weeks at sea on a NOAA research vessel, participating in an on-going research project with NOAA scientists. The application solicits information from interested educators: Basic personal information, teaching experience and ideas for applying program experience in their classrooms, plus two recommendations and a NOAA Health Services Questionnaire required of anyone selected to participate in the program. Once educators are selected and participate on a cruise, they write a report detailing the events of the cruise and ideas for classroom activities based on what they learned while at sea. These materials are then made available to other educators so they may benefit from the experience, without actually going to sea themselves. NOAA does not collect information from this universe of respondents for any other purpose.

Affected Public: Individuals or households.

Frequency: One time for applicants and those providing recommendations; for participants, a total of three times in one year.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 13, 2016.
Sarah Brabson,
NOAA PRA Clearance Officer.

[FR Doc. 2016-16903 Filed 7-15-16; 8:45 am]

BILLING CODE 3510-22-P